INTERNATIONAL TRADE COMMISSION

[Investigation No. 731-TA-653 (Second Review)]

Sebacic Acid From China

AGENCY: United States International Trade Commission.

ACTION: Revised schedule for the subject review.

EFFECTIVE DATES: January 25, 2005.

FOR FURTHER INFORMATION CONTACT: Jai Motwane (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On July 28, 2004 (69 FR 45075), the Commission published a notice in the Federal Register scheduling a full five-year review concerning the antidumping duty order on sebacic acid from China. Pursuant to 19 U.S.C. 1675 (c)(5)(B),¹ the Commission has extended the review period by up to 90 days.

¹ As a transition order five-year review, the subject review is extraordinarily complicated pursuant to section 751(c)(5)(C) of the Tariff Act of 1930.

The record in this review will be reopened and parties may submit final comments on any new information on or before April 21, 2005. Such final comments must comply with section 207.68 of the Commission's rules.

For further information concerning this review, see the Commission's notice cited above and the Commission's Rules of Practice and Procedure, part 201, subparts A through E (19 CFR part 201), and part 207, subparts A and F (19 CFR part 207).

Authority: This review is being conducted under authority of title VII of the Tariff Act of 1930; this notice is published pursuant to sections 201.35 and 207.62 of the Commission's rules.

By order of the Commission.
Issued: January 25, 2005.
Marilyn R. Abbott,
Secretary to the Commission.

[FR Doc. 05-1655 Filed 1-27-05; 8:45 am]

BILLING CODE 7020-02-P